DEPARTMENT OF THE TREASURY

31 CFR Part 148

Qualified Financial Contracts Recordkeeping Related to Orderly Liquidation Authority

AGENCY: Department of the Treasury.

ACTION: Notification.

SUMMARY: On October 31, 2016, the Secretary of the Treasury, as Chairperson of the Financial Stability Oversight Council, published a final rule in consultation with the Federal Deposit Insurance Corporation (the “FDIC”) to implement the qualified financial contract recordkeeping requirements of the Dodd-Frank Wall Street Reform and Consumer Protection Act. This notification provides the means by which records entities and top-tier financial companies may submit the required point of contact information.

DATES: March 30, 2017.

FOR FURTHER INFORMATION CONTACT: Brian Smith, Director, Office of Capital Markets (202) 622-0157; Peter Nickoloff, Financial Economist, Office of Capital Markets, (202) 622-1692; Steven D. Laughton, Assistant General Counsel (Banking & Finance), (202) 622-8413; or Stephen T. Milligan, Attorney-Advisor, (202) 622-4051.

SUPPLEMENTARY INFORMATION: Section 148.3(a)(2) of the rule (see 81 FR 75624 (Oct. 31, 2016)) requires each records entity and top-tier financial company to provide a point of contact who is responsible for recordkeeping under the rule by written notice to its primary financial regulatory agency or agencies and the FDIC.¹ Each records entity and top-tier financial company is also required to provide written notice to its primary financial regulatory agency or agencies and the FDIC within 30 days of any change in its point of contact.

¹ 31 CFR 148.3(a)(2).

Records entities and top-tier financial companies may provide such point of contact information to each of the following primary financial regulatory agencies by email at the addresses listed below:

Board of Governors of the Federal Reserve System, QFC-Record@frb.gov

Commodity Futures Trading Commission, qfccontact@cftc.gov

Federal Deposit Insurance Corporation, Part148QFC@fdic.gov

Securities and Exchange Commission, QFCContact@sec.gov

Authority: 12 U.S.C. 5390(c)(8)(H).

Dated: March 27, 2017.
Monique Y.S. Rollins,
Acting Assistant Secretary for Financial Markets.

[FR Doc. 2017-06288 Filed 3-29-17; 8:45 am]

BILLING CODE P